FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 16693N.

Name: Horizon International Shipping, Inc.

Address: 10943 NW. 122nd Street, Medley, FL 33178.

Date Surrendered: June 2, 2014.

Reason: Voluntary surrender of license.

License No.: 020234F.

Name: Arrow Worldwide, LLC.

Address: 917 Pacific Avenue, Tacoma, WA 98402.

Date Revoked: June 20, 2014.

Reason: Failed to maintain a valid bond.

License No.: 020282N.

Name: A C H Freight Forwarding Inc.

Address: 136-21 Roosevelt Avenue, Suite 309, Flushing, NY 11354.

Date Surrendered: May 27, 2014.

Reason: Voluntary surrender of license.

License No.: 023084N.

Name: Crest Logistics Inc.

Address: 27911 Ridgecove Court North, Rancho Palos Verdes, CA 90275.

Date Surrendered: June 18, 2014.

Reason: Voluntary surrender of license.

License No.: 023461NF.

Name: Norgistics North America, Inc.

Address: 99 Wood Avenue South, Suite 9-F, Iselin, NJ 08830.

Date Surrendered: June 13, 2014.

Reason: Voluntary surrender of license.

License No.: 023649N.

Name: OQ Enterprises, Inc.

Address: 23990 Hesperian Blvd., Hayward, CA 94541.

Date Surrendered: June 25, 2014.

Reason: Voluntary surrender of license.

License No.: 023850NF.

Name: Caribbean Forwarding LLC.

Address: 2070 NW. 79th Avenue, Suite 204, Miami, FL 33122.

Date Revoked: June 18, 2014.

Reason: Failed to maintain valid bonds.

Sandra L. Kusumoto.
Director, Bureau of Certification and Licensing.

[FR Doc. 2014-16935 Filed 7-17-14; 8:45 am]

BILLING CODE 6730-01-P